DEPARTMENT OF JUSTICE

Antitrust Division

Notice Pursuant to the National Cooperative Research and Production Act of 1993—Cellco Partnership D/B/A Verizon Wireless, Comcast Cable Communications, LCC, Time Warner Cable LLC, and Bright House Networks, LLC

Notice is hereby given that, on February 24, 2012, pursuant to Section 6(a) of the National Cooperative Research and Production Act of 1993, 15 U.S.C. 4301 et seq. (“the Act”), Cellco Partnership d/b/a Verizon Wireless, Comcast Cable Communications, LLC, Time Warner Cable LLC, and Bright House Networks, LLC (“Cellco”, “Comcast”, “Time Warner”, and “Bright House”) have filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: Cellco Partnership d/b/a Verizon Wireless, Basking Ridge, NJ; Comcast Cable Communications, LLC, Philadelphia, PA; Time Warner Cable LLC, New York, NY; and Bright House Networks, LLC, Syracuse, NY. The general area of Cellco, Comcast, Time Warner, and Bright House's planned activity is the research and development of technology and intellectual property relating to enhanced integration of wireline and wireless products, services, and devices.

Patricia A. Brink,
Director of Civil Enforcement, Antitrust Division.

[FR Doc. 2012-7072 Filed 3-22-12; 8:45 am]

BILLING CODE P